DEPARTMENT OF HOMELAND SECURITY

Transportation Security Administration

Intent To Request Approval From OMB of One New Public Collection of Information: Speaker Request Form

AGENCY: Transportation Security Administration, DHS.

ACTION: 60-Day notice.

SUMMARY: The Transportation Security Administration (TSA) invites public comment on a new Information Collection Request (ICR) abstracted below that we will submit to the Office of Management and Budget (OMB) for approval in compliance with the Paperwork Reduction Act (PRA). The ICR describes the nature of the information collection and its expected burden. The collection involves the basic point of contact information on the person/organization requesting a TSA speaker, the logistical information for that speaking engagement, and context for the request to determine the audience reach, ethical concerns, and possible promotion of the speaking engagement.

DATES: Send your comments by June 21, 2021.

ADDRESSES: Comments may be emailed to TSAPRA@tsa.dhs.gov or delivered to the TSA PRA Officer, Information Technology, TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose and Description of Data Collection

To respond to public speaking invitations, TSA has created the Speaker Request Form, which collects information on the requestor and the event a speaker would attend. TSA is requesting OMB approval of the Speaker Request Form. The form requests the name of the organization and if it is a profit or nonprofit organization; the point of contact information for the person coordinating the event; the date, time, and location of the event; the type of event (e.g., keynote, dinner, panel, interview, etc.); the purpose of the event; the topics of discussion; the audience makeup; other notable guests; and if media will be attending.

This basic contact information is needed to respond to the requestor, determine where to find a TSA speaker geographically, and what resources would be needed to send a speaker to the event. TSA also collects information to determine if it is in the best interests of the agency to send a speaker to the speaking engagement, if it aligns with the agency's communication goals, and if it is, who should speak on behalf of the agency on the requested topics. The information is collected only once for any engagement and is completely voluntary on the part of the requestor.

TSA is submitting the form as a Common Form to permit Federal agency users beyond the agency that created the form (e.g., Department of Homeland Security or U.S. Office of Personnel Management) to streamline the information collection process in coordination with OMB.

TSA expects to receive approximately 300 speaker requests per year. The agency estimates that each respondent will spend approximately 10 minutes to complete the Speaker Request Form, for a total annual burden of 3,000 minutes (50 hours).

Use of Results

TSA Speaker's Bureau will use the information on the form to determine which TSA speaker may attend the speaking engagement, if any. The organization and point of contact information is only shared with the proposed TSA speaker to allow the speaker to coordinate the day of logistics. The event information may be shared among TSA offices, particularly within the Strategic Communications and Public Affairs office to identify greater opportunities to align the engagement or the organization with its communication goals and possibly promote the TSA speaker on other external platforms.

The form is emailed to the TSA Speaker's Bureau which is limited to only the employees tasked with coordinating TSA speaking engagements. Any archiving of the forms information would be on a secure and closed system, accessible by only employees with system permissions and could be used to identify trends over time.

Dated: April 19, 2021.
Christina A. Walsh,
TSA Paperwork Reduction Act Officer, Information Technology.

[FR Doc. 2021-08393 Filed 4-21-21; 8:45 am]

BILLING CODE 9110-05-P